DEPARTMENT OF EDUCATION

Fund for the Improvement of Postsecondary Education—European Union-United States Atlantis Program; Program for North American Mobility in Higher Education Program; United States-Brazil Higher Education Consortia Program; United States-Russia Program: Improving Research and Educational Activities in Higher Education

Catalog of Federal Domestic Assistance Numbers: 84.116J (European Union (EU)-United States (U.S.) Atlantis Program), 84.116N (Program for North American Mobility in Higher Education), 84.116M (U.S.-Brazil Higher Education Consortia Program), 84.116S (U.S.-Russia Program: Improving Research and Educational Activities in Higher Education).

AGENCY: Office of Postsecondary Education, Department of Education.

ACTION: Notice of proposed priorities.

SUMMARY: The Assistant Secretary for Postsecondary Education proposes one absolute priority for each of the four special focus competitions conducted by the Fund for the Improvement of Postsecondary Education (FIPSE): the EU-U.S. Atlantis Program, the Program for North American Mobility in Higher Education, the U.S.-Brazil Higher Education Consortia Program, and the U.S.-Russia Program: Improving Research and Educational Activities in Higher Education.

The Assistant Secretary may use these priorities for competitions in fiscal year (FY) 2010 and in later years. We take this action to focus Federal financial assistance on an identified need in the area of postsecondary education. We intend these absolute priorities to improve postsecondary education opportunities by supporting the formation of international educational consortia and encouraging cooperation in the coordination of curricula, the exchange of students, and the opening of educational opportunities between the U.S. and the countries involved in these programs.

DATES: We must receive your comments on or before October 8, 2009.

ADDRESSES: Address all comments about this notice to Sarah Beaton, U.S. Department of Education, 1990 K Street, NW., room 6154, Washington, DC 20006-8544.

If you prefer to send your comments by e-mail, use the following address: comments@ed.gov. You must include the following information in the subject line of your electronic message: “Absolute Priorities for Special Focus International Competitions, FIPSE.”

FOR FURTHER INFORMATION CONTACT: Sarah Beaton. Telephone: (202) 502-7621 or by e-mail: Sarah.Beaton@ed.gov.

If you use a telecommunications device for the deaf (TDD), call the Federal Relay Service (FRS), toll free, at 1-800-877-8339.

SUPPLEMENTARY INFORMATION:

Invitation to Comment: We invite you to submit comments regarding this notice. To ensure that your comments have maximum effect in developing the notice of final priorities, we urge you to identify clearly the specific proposed priority that each comment addresses.

We invite you to assist us in complying with the specific requirements of Executive Order 12866 and its overall requirement of reducing regulatory burden that might result from these proposed priorities. Please let us know of any further ways we could reduce potential costs or increase potential benefits while preserving the effective and efficient administration of the programs.

During and after the comment period, you may inspect all public comments about this notice in room 6154, 1990 K Street, NW., Washington, DC, between the hours of 8:30 a.m. and 4 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Fund for the Improvement of Postsecondary Education (FIPSE) program is to support reforms, innovations, and significant improvements of postsecondary education that respond to problems of national significance and serve as national models. Under the FIPSE program, the Secretary makes grants for special projects concerning areas of national need.

Program Authority: 20 U.S.C. 1138-1138d.

Proposed Priorities

Background: FIPSE is authorized under title VII, part B, sections 741 through 745 of the Higher Education Act of 1965, as amended (HEA), 20 U.S.C. 1138-1138d. Specifically, section 744 of the HEA authorizes the Secretary to make grants to institutions of higher education or consortia of such institutions with other public agencies and nonprofit organizations for innovative projects concerning areas of national need identified by the Secretary. Currently, these special projects include four international consortia programs: the EU-U.S. Atlantis Program (CFDA 84.116J), the Program for North American Mobility in Higher Education (CFDA 84.116N), the U.S.-Brazil Higher Education Consortia Program (CFDA 84.116M), and the U.S.-Russia Program: Improving Research and Educational Activities in Higher Education (CFDA 84.116S). Each of these programs, which are co-funded by the Department, through FIPSE, and its respective international government partners, supports multilateral, multi-institutional collaboration. In each program, the Department works solely with an agency from the other involved nation or international group to administer the program and choose grantees. The EU-U.S. Atlantis Program operates cooperatively with the European Commission, the Program for North American Mobility in Higher Education operates cooperatively with Human Resources and Social Development Canada and the Secretariat of Public Education in Mexico; the U.S.-Brazil Higher Education Consortia Program operates cooperatively with the Coordination of Improvement of Personnel of Superior Level (CAPES), Brazilian Ministry of Education; and the U.S.-Russia Program: Improving Research and Educational Activities in Higher Education operates cooperatively with the Russian Ministry of Education and Science.

Currently, the Secretary implements the EU-U.S. Atlantis Program, the Program for North American Mobility in Higher Education Program, the U.S.-Brazil Higher Education Consortia Program, and the U.S.-Russia Program: Improving Research and Educational Activities in Higher Education through the use of invitational priorities announced in notices inviting applications that are published in the Federal Register. We do not give an application that meets an invitational priority a competitive or absolute preference over other applications. The Department seeks to establish absolute priorities for these programs because, in accordance with the international agreements establishing these programs, we intend to use the priorities to limit eligibility for funding under these programs to only those U.S. colleges and universities that partner with foreign colleges and universities in the countries involved in the four programs. As absolute priorities, the criteria contained in them would function as eligibility requirements. Only those entities meeting the eligibility requirements in the priority would be eligible for funding under these priorities.

The following proposed absolute priorities support the formation of international educational consortia and encourage cooperation in the coordination of curricula; the exchange of students, if pertinent to grant activities; and the opening of educational opportunities between the U.S. and the respective countries involved in each of the programs. Therefore, only applications proposing projects addressing the absolute priority will be reviewed and considered for award; applications that do not address the absolute priority will be disqualified.

Proposed Absolute Priority 1—EU-U.S. Atlantis Program (84.116J)

This priority supports the formation of educational consortia between the EU and U.S. institutions. To meet this priority, the applicant must propose a project that encourages cooperation in the coordination of curricula; the exchange of students, if pertinent to grant activities; and the opening of educational opportunities between the U.S. and countries in the EU. In order to be eligible for an award under this priority, the applicant in the U.S. must be a U.S. institution and the applicant in the EU must be an EU institution.

EU institutions participating in any consortium proposal under this priority may apply to the Directorate-General for Education and Culture (DG EAC), European Commission for funding under a separate but parallel EU competition.

Proposed Absolute Priority 2—Program for North American Mobility in Higher Education (84.116N)

This priority supports the formation of educational consortia of U.S., Canadian, and Mexican institutions. To meet this priority, the applicant must propose a project that supports cooperation in the coordination of curricula; the exchange of students, if pertinent to grant activities; and the opening of educational opportunities among the U.S., Canada, and Mexico. In order to be eligible for an award under this priority, the applicant in the U.S. must be a U.S. institution, the applicant in Mexico must be a Mexican institution, and the applicant in Canada must be a Canadian institution. Canadian and Mexican institutions participating in any consortium proposal under this priority may apply, respectively, to Human Resources and Social Development Canada (HRSDC) or the Mexican Secretariat for Public Education (SEP), for funding under separate but parallel Canadian and Mexican competitions.

Proposed Absolute Priority 3—U.S.-Brazil Higher Education Consortia Program (84.116M)

This priority supports the formation of educational consortia of U.S. and Brazilian institutions. To meet this priority, the applicant must propose a project that supports cooperation in the coordination of curricula; the exchange of students, if pertinent to grant activities; and the opening of educational opportunities between the U.S. and Brazil. In order to be eligible for an award under this priority, the applicant in the U.S. must be a U.S. institution and the applicant in Brazil must be a Brazilian institution. Brazilian institutions participating in any consortium proposal under this priority may apply to the Coordination of Improvement of Personnel of Superior Level (CAPES), Brazilian Ministry of Education, for funding under a separate but parallel Brazilian competition.

Proposed Absolute Priority 4—U.S.-Russian Program: Improving Research and Educational Activities in Higher Education (84.116S)

This priority supports the formation of educational consortia of U.S. and Russian institutions to encourage mutual socio-cultural-linguistic cooperation; the coordination of joint development of curricular, educational materials; and the exchange of students. In order to be eligible for an award under this priority, the applicant in the U.S. must be a U.S. institution and the applicant in Russia must be a Russian institution. Russian institutions participating in any consortium proposal under this priority may apply to the Russian Ministry of Education and Science for funding under a separate but parallel Russian competition.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priorities

We will announce the final priorities in a notice in the Federal Register. We will determine the final priorities after considering responses to this notice and other information available to the Department. This notice does not preclude us from proposing additional priorities, requirements, definitions, or selection criteria, subject to meeting applicable rulemaking requirements.

Note: This notice does not solicit applications. In any year in which we choose to use one or more of these priorities, we invite applications through a notice in the Federal Register.

Executive Order 12866: This notice has been reviewed in accordance with Executive Order 12866. Under the terms of the order, we have assessed the potential costs and benefits of this proposed regulatory action.

The potential costs associated with this proposed regulatory action are those resulting from statutory requirements and those we have determined as necessary for administering these programs effectively and efficiently.

In assessing the potential costs and benefits—both quantitative and qualitative—of this proposed regulatory action, we have determined that the benefits of the proposed priorities justify the costs.

We have determined, also, that this proposed regulatory action does not unduly interfere with State, local, and tribal governments in the exercise of their governmental functions.

Intergovernmental Review: These programs are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Accessible Format: Individuals with disabilities can obtain this document in an accessible format (e.g., braille, large print, audiotape, or computer diskette) on request to the program contact person listed under FOR FURTHER INFORMATION CONTACT.

Electronic Access to This Document: You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Delegation of Authority: The Secretary of Education has delegated authority to Daniel T. Madzelan, Director, Forecasting and Policy Analysis for the Office of Postsecondary Education, to perform the functions and duties of the Assistant Secretary for Postsecondary Education.

Dated: September 2, 2009.
Daniel T. Madzelan,
Director, Forecasting and Policy Analysis.

[FR Doc. E9-21608 Filed 9-4-09; 8:45 am]

BILLING CODE 4000-01-P